DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Almanor Railroad (AL)

(Waiver Petition Docket Number FRA-2004-17030)

The Almanor Railroad has petitioned for a permanent waiver of compliance for one (1) locomotive, specifically Locomotive #165, from the requirements of Safety Glazing Standards, 49 CFR 223.11. Section 223.11 states, “(a) Locomotives, other than yard locomotives built or rebuilt prior to July 1, 1980 which are equipped in the forward and rearward end facing glazing locations of the locomotive cab windshield with a glazing material that meets the criteria for either portion of the impact testing required for a Type I test under the provisions of appendix A of this part, will not require the installation of certified glazing in the windshield location except to replace windshield glazing material that is broken or damaged. (b) Locomotives other than yard locomotives built or rebuilt prior to July 1, 1980 which are equipped in all locomotive cab side facing glazing locations with a glazing material that meets the criteria for either portion of the impact testing required for a Type II test under the provisions of appendix A of this part, will not require the installation of certified glazing in the side facing glazing location except to replace side facing glazing material that is broken or damaged.

The locomotive was purchased from the Lions Club in Spokane, Washington, as POVA 103, 70-Ton GE manufactured in 1956; it is now AL Locomotive #165. The Lions Club maintained a FRA waiver for safety glazing on this locomotive prior to the AL purchasing the locomotive.

The AL Railroad operates in a private yard and over 13 miles of private track to the main line junction in Plumas County.

The AL has also recently taken Locomotive #166 out of commission. This locomotive also had an FRA waiver for safety glazing in place during its tenure.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2004-17030) and must be submitted to the Docket Clerk, DOT Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 22, 1000 (Volume 65, Number 70; Pages 19477-78). The Statement may also be found at http://dms.dot.gov.

Issued in Washington DC on March 25, 2004.
Grady C. Cothen, Jr.,
Deputy Associate Administrator for Safety Standards and Program Development.

[FR Doc. 04-7120 Filed 3-30-04; 8:45 am]

BILLING CODE 4910-06-M